DEPARTMENT OF THE INTERIOR

National Park Service

[NPS-WASO-NAGPRA-11491: 2200-1100-665]

Notice of Inventory Completion: U.S. Department of Agriculture, Forest Service, Ozark-St. Francis National Forests, Russellville, AR

AGENCY: National Park Service, Interior.

ACTION: Notice.

SUMMARY: The U.S. Department of Agriculture (USDA), Forest Service, Ozark-St. Francis National Forests has completed an inventory of human remains and associated funerary objects, in consultation with the appropriate Indian tribes, and has determined that there is a cultural affiliation between the human remains and associated funerary objects and present-day Indian tribes. Representatives of any Indian tribe that believes itself to be culturally affiliated with the human remains and associated funerary objects may contact the Ozark-St. Francis National Forests. Repatriation of the human remains and associated funerary objects to the Indian tribes stated below may occur if no additional claimants come forward.

DATES: Representatives of any Indian tribe that believes it has a cultural affiliation with the human remains and associated funerary objects should contact the Ozark-St. Francis National Forests at the address below by December 17, 2012.

ADDRESSES: Judith L. Henry, Forest Supervisor, USDA Forest Service, Ozark-St. Francis National Forests, Russellville, AR 72801, telephone (479) 964-7202.

SUPPLEMENTARY INFORMATION: Notice is here given in accordance with the Native American Graves Protection and Repatriation Act (NAGPRA), 25 U.S.C. 3003, of the completion of an inventory of human remains and associated funerary objects in the possession of the Ozark-St. Francis National Forests. The human remains and associated funerary objects either were removed from lands on the Ozark-St. Francis National Forests or, as noted, were removed from private land and donated to the Ozark-St. Francis National Forests by private collectors.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Ozark-St. Francis National Forests professional staff in consultation with representatives of the Absentee-Shawnee Tribe of Indians of Oklahoma; Alabama-Quassarte Tribal Town; Caddo Nation of Oklahoma; Cherokee Nation; Chickasaw Nation; Choctaw Nation of Oklahoma; Delaware Nation, Oklahoma; Eastern Shawnee Tribe of Oklahoma; Jena Band of Choctaw Indians; Kialegee Tribal Town; Miami Tribe of Oklahoma; Mississippi Band of Choctaw Indians; Peoria Tribe of Indians of Oklahoma; Quapaw Tribe of Indians; Shawnee Tribe; The Muscogee (Creek) Nation; The Osage Nation (previously listed as the Osage Tribe); The Seminole Nation of Oklahoma; Thlopthlocco Tribal Town; Tunica-Biloxi Indian Tribe; United Keetoowah Band of Cherokee Indians in Oklahoma; and the Wichita and Affiliated Tribes (Wichita, Keechi, Waco & Tawakonie), Oklahoma.

History and Description of the Remains

In 1978, human remains representing, at minimum, one individual were removed from site 3BE276 in Benton County, AR. The site was recorded in 1978 by Monroe Hutton and Gayle J. Fritz of the Arkansas Archeological Survey (AAS). Based on a close examination of the landlines in 2007, this site is located outside the Ozark-St. Francis National Forests, on private property adjacent to an Arkansas Highway Department right-of-way. The AAS transferred the remains to the Ozark-St. Francis National Forests Supervisor's Office in 1992. The human remains consist of a single human tibia. No known individuals were identified. No associated funerary objects are present. The site dates from 2000 B.C. to A.D. 1200. The location of this site is within the historical range of the Caddo Nation of Oklahoma and The Osage Nation.

In 1969, human remains representing, at minimum, four individuals were removed from site 3NW79 in Newton County, AR, by Thelma and Louis Gregoire of the AAS. In 1988, they donated the remains to the USDA Forest Service. The Gregoires identified human remains from one burial at the site, and the USDA Forest Service identified additional human remains in faunal collections from the site. No known individuals were identified. The two associated funerary objects from the identified burial are a lanceolate dart point and a soil sample. The site dates from 8000 B.C. to A.D. 1600. The location of this site is within the historical range of the Caddo Nation of Oklahoma and The Osage Nation.

In 1972, human remains representing, at minimum, two individuals were removed from site 3NW428 in Newton County, AR, by Thelma and Louis Gregoire of the AAS. In 1988, they donated the remains to the USDA Forest Service. The Gregoires identified human remains of a young adult female from one burial at the site, and determined that those remains had previously been excavated and reburied by unknown looters. The USDA Forest Service identified additional human remains in faunal collections from the site. No known individuals were identified. The two associated funerary objects from the burial are a cane splint needle and a unifacial knife or scraper. The site dates from 5000 B.C. to A.D. 1200. The location of this site is within the historical range of the Caddo Nation of Oklahoma and The Osage Nation.

In 1986, human remains representing, at minimum, three individuals were removed from site 3NW623 in Newton County, AR, by John Slay, Forest Archeologist, Ozark-St. Francis National Forests. No known individuals were identified. No associated funerary objects are present. The site dates from the Early Archaic through Mississippi periods (7000 B.C.-A.D. 1600). The location of this site is within the historical range of the Caddo Nation of Oklahoma and The Osage Nation.

In 1971, human remains representing, at minimum, one individual were removed from site 3NW405 in Newton County, AR, by Steve Erwin of the AAS. The site is located on USDA-Forest Service land. No known individuals were identified. No associated funerary objects are present. The site dates from 2000 B.C. to A.D. 1600. The location of this site is within the historical range of the Caddo Nation of Oklahoma and The Osage Nation.

In 1971, human remains representing, at minimum, two individuals were removed from site 3NW408 in Newton County, AR, by Steve Erwin of the AAS. The site is located on USDA-Forest Service land. No known individuals were identified. No associated funerary objects are present. The site dates from 2000 B.C. to A.D. 1600. The location of this site is within the historical range of the Caddo Nation of Oklahoma and The Osage Nation.

In 1967, human remains representing, at minimum, one individual were removed from site 3NW67 in Newton County, AR, by Thelma and Louis Gregoire of the AAS. In 1988, they donated their collection to the USDA-Forest Service. The USDA-Forest Service identified these human remains in faunal collections from the site. No known individuals were identified. No associated funerary objects are present. The site dates from 500 B.C. to A.D. 1600. The location of this site is within the historical range of the Caddo Nation of Oklahoma and The Osage Nation.

In 1970, human remains representing, at minimum, one individual were removed from site 3NW77, on private property, in Newton County, AR, by Thelma and Louis Gregoire of the AAS. In 1988, they donated their collection to the USDA-Forest Service. The USDA-Forest Service identified these human remains in faunal collections from the site. No known individuals were identified. No associated funerary objects are present. The site dates from 500 B.C. to A.D. 1600. The location of this site is within the historical range of the Caddo Nation of Oklahoma and The Osage Nation.

In 1967 and 1969, human remains representing, at minimum, one individual were removed from site 3NW122 in Newton County, AR, by Thelma and Louis Gregoire of the AAS. In 1988, they donated their collection to the USDA-Forest Service. The USDA-Forest Service identified these human remains in faunal collections from the site. No known individuals were identified. No associated funerary objects are present. The site dates from 500 B.C. to A.D. 1600. The location of this site is within the historical range of the Caddo Nation of Oklahoma and The Osage Nation.

In 1967 and 1968, human remains representing, at minimum, one individual were removed from site 3NW129 in Newton County, AR, by Thelma and Louis Gregoire of the AAS. In 1988, they donated their collection to the USDA-Forest Service. The USDA-Forest Service identified these human remains in faunal collections from the site. No known individuals were identified. No associated funerary objects are present. The site dates from 500 B.C. to A.D. 1600. The location of this site is within the historical range of the Caddo Nation of Oklahoma and The Osage Nation.

In 1971, human remains representing, at minimum, two individuals were removed from site 3NW136 in Newton County, AR, by Thelma and Louis Gregoire of the AAS. In 1988, they donated their collection to the USDA-Forest Service. The USDA-Forest Service identified these human remains in faunal collections from the site. No known individuals were identified. No associated funerary objects are present. The site dates from 5000 B.C. to A.D. 1600. The location of this site is within the historical range of the Caddo Nation of Oklahoma and The Osage Nation.

In 1971, human remains representing, at minimum, one individual were removed from site 3NW161, on private property, in Newton County, AR, by Thelma and Louis Gregoire of the AAS. In 1988, they donated their collection to the USDA-Forest Service. The USDA-Forest Service identified these human remains in faunal collections from the site. No known individuals were identified. No associated funerary objects are present. The site dates from A.D. 500 to 900. The location of this site is within the historical range of the Caddo Nation of Oklahoma and The Osage Nation.

In 1971, human remains representing, at minimum, one individual were removed from site 3NW234, on private property, in Newton County, AR, by Thelma and Louis Gregoire of the AAS. In 1988, they donated their collection to the USDA-Forest Service. The USDA-Forest Service identified these human remains in faunal collections from the site. No known individuals were identified. No associated funerary objects are present. The site dates from 500 B.C. to A.D. 900. The location of this site is within the historical range of the Caddo Nation of Oklahoma and The Osage Nation.

In 1969, human remains representing, at minimum, one individual were removed from site 3NW247, on private property, in Newton County, AR, by Thelma and Louis Gregoire of the AAS. In 1988, they donated their collection to the USDA-Forest Service. The USDA-Forest Service identified these human remains in faunal collections from the site. No known individuals were identified. No associated funerary objects are present. The site dates from 2000 B.C. to A.D. 900. The location of this site is within the historical range of the Caddo Nation of Oklahoma and The Osage Nation.

In 1970, human remains representing, at minimum, one individual were removed from site 3NW267, on private property, in Newton County, AR, by Thelma and Louis Gregoire of the AAS. In 1988, they donated their collection to the USDA-Forest Service. The USDA-Forest Service identified these human remains in faunal collections from the site. No known individuals were identified. The six associated funerary objects are three shell beads, a bone pendant, a Langtry dart point, and a portion of a small mammal skeleton. The site dates from 2000 B.C. to A.D. 1000. The location of this site is within the historical range of the Caddo Nation of Oklahoma and The Osage Nation.

In 1970, human remains representing, at minimum, one individual were removed from site 3NW269, on private property, in Newton County, AR, by Thelma and Louis Gregoire of the AAS. In 1988, they donated their collection to the USDA-Forest Service. The USDA-Forest Service identified these human remains in faunal collections from the site. No known individuals were identified. No associated funerary objects are present. The site dates from 500 B.C. to A.D. 900. The location of this site is within the historical range of the Caddo Nation of Oklahoma and The Osage Nation.

In 1970, human remains representing, at minimum, one individual were removed from site 3NW372 in Newton County, AR, by Thelma and Louis Gregoire of the AAS. In 1988, they donated their collection to the USDA-Forest Service. The USDA-Forest Service identified these human remains in faunal collections from the site. No known individuals were identified. No associated funerary objects are present. The site dates from 2000 B.C. to A.D. 900. The location of this site is within the historical range of the Caddo Nation of Oklahoma and The Osage Nation.

In 1977, human remains representing, at minimum, three individuals were removed from site 3NW457, on private property, in Newton County, AR, by Thelma and Louis Gregoire of the AAS. In 1988, they donated their collection to the USDA-Forest Service. The Gregoires identified human remains from one burial from the site, and the USDA-Forest Service identified additional human remains in faunal collections from the site. No known individuals were identified. No associated funerary objects are present. The site dates from 5000 B.C. to A.D. 1600. The location of this site is within the historical range of the Caddo Nation of Oklahoma and The Osage Nation.

Determinations Made by the USDA Forest Service, Ozark-St. Francis National Forests

Officials of the USDA Forest Service, Ozark-St. Francis National Forests have determined that:

• Pursuant to 25 U.S.C. 3001(9), the human remains described in this notice represent the physical remains of 28 individuals of Native American ancestry.

• Pursuant to 25 U.S.C. 3001(3)(A), the 10 objects described above are reasonably believed to have been placed with or near individual human remains at the time of death or later as part of the death rite or ceremony.

• Pursuant to 25 U.S.C. 3001(2), there is a relationship of shared group identity that can be reasonably traced between the Native American human remains and associated funerary objects and the Caddo Nation of Oklahoma and The Osage Nation.

Additional Requestors and Disposition

Representatives of any Indian tribe that believes itself to be culturally affiliated with the human remains and associated funerary objects should contact Judith L. Henry, Forest Supervisor, USDA Forest Service Ozark-St. Francis National Forests, Russellville, AR 72801, telephone (479) 964-7202, before December 17, 2012. Repatriation of the human remains and associated funerary objects to the Caddo Nation of Oklahoma and The Osage Nation may proceed after that date if no additional claimants come forward.

The USDA Forest Service, Ozark-St. Francis National Forests, is responsible for notifying the Absentee-Shawnee Tribe of Indians of Oklahoma; Alabama-Quassarte Tribal Town; Caddo Nation of Oklahoma; Cherokee Nation; Chickasaw Nation; Choctaw Nation of Oklahoma; Delaware Nation, Oklahoma; Eastern Shawnee Tribe of Oklahoma; Jena Band of Choctaw Indians; Kialegee Tribal Town; Miami Tribe of Oklahoma; Mississippi Band of Choctaw Indians; Peoria Tribe of Indians of Oklahoma; Quapaw Tribe of Indians; Shawnee Tribe; The Muscogee (Creek) Nation; The Osage Nation (previously listed as the Osage Tribe); The Seminole Nation of Oklahoma; Thlopthlocco Tribal Town; Tunica-Biloxi Indian Tribe; United Keetoowah Band of Cherokee Indians in Oklahoma; and the Wichita and Affiliated Tribes (Wichita, Keechi, Waco & Tawakonie), Oklahoma, that this notice has been published.

Dated: October 12, 2012.
Sherry Hutt,
Manager, National NAGPRA Program.

[FR Doc. 2012-27949 Filed 11-15-12; 8:45 am]

BILLING CODE 4312-50-P